DEPARTMENT OF ENERGY

Federal Energy Regulatory Commission

[Docket No. ER01-833-001, et al.]

Pacific Gas and Electric Company, et al.; Electric Rate and Corporate Filings

February 19, 2003.

The following filings have been made with the Commission. The filings are listed in ascending order within each docket classification.

1. Pacific Gas and Electric Company

[Docket No. ER01-833-001]

Take notice that on February 14, 2003, Pacific Gas and Electric Company (PG&E) tendered for filing copies of a revised Wholesale Distribution Tariff (WDT) Service Agreement (Service Agreement) between PG&E and Modesto Irrigation District (MID) and a Letter Agreement (Letter Agreement) between PG&E and MID.

PG&E states that the Service Agreement is submitted pursuant to the PG&E WDT and permits PG&E to recover the ongoing costs for service required over PG&E's distribution facilities. The Letter Agreement memorializes the understanding between PG&E and MID regarding the revised Service Agreement under PG&E's WDT for service to MID's Mountain House retail load.

PG&E has requested an effective date of January 1, 2001. PG&E also states that copies of this filing have been served upon MID, the California Independent System Operator Corporation and the California Public Utilities Commission.

Comment Date: March 7, 2003.

2. U.S. Power and Gas Pennsylvania LLC

[Docket No. ER03-261-001]

Take notice that on February 11, 2003, U.S. Power and Gas Pennsylvania LLC filed amendments to its market-base rate authority proposal.

Comment Date: March 4, 2003.

3. Midwest Independent Transmission System Operator, Inc.

[Docket No. ER03-401-001]

Take notice that on February 13, 2003, the Midwest Independent Transmission System Operator, Inc. (Midwest ISO) tendered for filing its errata revisions to Second Revised Sheet No. 339 of Attachment M of the Midwest ISO Open Access Transmission Tariff, FERC Electric Tariff, Second Revised Volume No. 1. Applicant requests the originally requested effective date of February 1, 2003 for the substitute sheet.

The Midwest ISO has requested waiver of the requirements set forth in 18 CFR 385.2010. The Midwest ISO states that it has electronically served a copy of this filing, with attachments, upon all Midwest ISO Members, Member representatives of Transmission Owners and Non-Transmission Owners, the Midwest ISO Advisory Committee participants, Policy Subcommittee participants, as well as all state commissions within the region. In addition, the filing has been electronically posted on the Midwest ISO's Web site at www.midwestiso.org under the heading Filings to FERC” for other interested parties in this matter.

Comment Date: March 6, 2003.

4. Midwest Independent Transmission System Operator, Inc.

[Docket No. ER03-422-001]

Take notice that on February 13, 2003, the Midwest Independent Transmission System Operator, Inc. (Midwest ISO) tendered for filing its errata revisions to Original Sheet No. 213A of Schedule 10 of the Midwest ISO Open Access Transmission Tariff, FERC Electric Tariff, Second Revised Volume No. 1. Applicant requests the originally requested effective date of January 17, 2003 for the substitute sheet.

The Midwest ISO has requested waiver of the requirements set forth in 18 CFR 385.2010. The Midwest ISO states that it has electronically served a copy of this filing, with attachments, upon all Midwest ISO Members, Member representatives of Transmission Owners and Non-Transmission Owners, the Midwest ISO Advisory Committee participants, Policy Subcommittee participants, as well as all state commissions within the region. In addition, the filing has been electronically posted on the Midwest ISO's Web site at http://www.midwestiso.org under the heading Filings to FERC” for other interested parties in this matter.

Comment Date: March 6, 2003.

5. PacifiCorp

[Docket No. ER03-530-000]

Take notice that PacifiCorp on February 13, 2003, tendered for filing with the Federal Energy Regulatory Commission (Commission) in accordance with 18 CFR part 35 of the Commission's Rules and Regulations, Notices of Cancellation of: (1) Service Agreements No. 14 and No. 15 under PacifiCorp's FERC Electric Tariff, Third Revised Volume No. 12 between Public Utility District No. 1 of Clark County, Washington ; (2) PacifiCorp, and Service Agreement No. 43 under PacifiCorp's FERC Electric Tariff, Third Revised Volume No. 12 between Electrical District No. 2 of Pinal County, Arizona and PacifiCorp and (3) Service Agreement No. 49 under PacifiCorp's FERC Electric Tariff, Third Revised Volume No. 12 between City of Mesa, Arizona and PacifiCorp.

PacifiCorp states that copies of this filing were served on the Public Utility Commission of Oregon and the Washington Utilities and Transportation Commission.

Comment Date: March 6, 2003.

6. PJM Interconnection, L.L.C.

[Docket No. ER03-531-000]

Take notice that on February 13, 2003, PJM Interconnection, L.L.C. (PJM) on behalf of three of its members—Jersey Central Power & Light Company, Metropolitan Edison Company and Pennsylvania Electric Company ( the FirstEnergy Companies) submitted for filing amendments to Attachments M GPU and N GPU to the PJM Open Access Transmission Tariff. Attachments M GPU and N GPU are procedure manuals under which the FirstEnergy Companies (formerly d/b/a as GPU Energy) calculate retail suppliers' total hourly energy obligations and peak load shares. The attachments are amended to reflect that FirstEnergy Companies no longer do business as GPU Energy and no longer use Dynamic Load Profiling.

PJM, on behalf of FirstEnergy Companies, requested an effective date of February 14, 2003.

PJM states that copies of this filing were served upon all PJM members, including FirstEnergy Companies, and each state electric utility regulatory commission in the PJM region.

Comment Date: March 6, 2003.

7. Consumers Energy Company, on behalf of Michigan Electric Transmission Co.

[Docket No. ER03-532-000]

Take notice that on February 12, 2003, Consumers Energy Company (Consumers) tendered for filing the following tariff sheets as part of Michigan Electric Transmission Company (Michigan Transco) FERC Electric Tariff, Original Volume No. 1.

First Revised Sheet Nos. 36, 56, 73 through 79, 82 through 88 and 114

All of the Sheets are to become effective April 1, 2001. Consumers states that the Original version of these sheets was accepted in Docket No. ER01-414-000, subject to the outcome of Docket Nos. OA96-77-000, et al. Consumers indicates that the instant filing is to reflect the final outcome of Docket Nos. OA96-77-000, et al.

Consumers states that copies of the filing were served upon those on the official service list in Docket No. ER01-414-000.

Comment Date: March 5, 2003.

8. Alliant Energy Neenah, LLC

[Docket No. ER03-533-000]

Take notice that on February 13, 2003, Alliant Energy Neenah, LLC (Alliant Energy Neenah) submitted to the Federal Energy Regulatory Commission (Commission) a Notice of Succession notifying the Commission that it has succeeded to the market-based rate wholesale power sales rate schedule (the Rate Schedule) of Mirant Neenah, LLC, First Revised Rate Schedule FERC No. 1. In addition, Alliant Energy Neenah files the Rate Schedule, updated as appropriate and in conformance with Order Nos. 614 and 2001, as Alliant Energy Neenah, LLC, Original Rate Schedule FERC No. 1.

Comment Date: March 6, 2003.

9. Ingenco Wholesale Power, L.L.C.

[Docket No. ER03-534-000]

Take notice that on February 13, 2003, Ingenco Wholesale Power, L.L.C. (Ingenco Wholesale) petitioned the Federal Energy Regulatory Commission (Commission) for acceptance of Ingenco Wholesale Power, L.L.C. Rate Schedule FERC No. 1; the granting of certain blanket approvals, including the authority to sell electricity at market-based rates; and the waiver of certain Commission regulations.

Ingenco Wholesale states that it was formed for the purpose of owning Ingenco—Mountain View, a 12 MW electric generating facility located in Mountain View, Pennsylvania. Ingenco Wholesale will also hold an interest in other electric generation facilities currently under development and sell the output of those facilities, as well as a number of facilities that are current qualifying facilities, as is detailed in its application.

Comment Date: March 6, 2003.

10. Florida Power & Light Company

[Docket No. ER03-535-000]

Take notice that on February 14, 2003, Florida Power & Light Company (FPL) tendered for filing an executed, revised Interconnection & Operation Agreement between FPL and CPV Gulfcoast, Ltd. FPL requests that this agreement be made effective upon execution by the parties, February 13, 2003, as mutually agreed by the parties.

Comment Date: March 7, 2003.

11. Deseret Generation & Transmission Co-operative, Inc.

[Docket No. ER03-536-000]

Take notice that on February 14, 2003, Deseret Generation & Transmission Co-operative, Inc. (Deseret) tendered certain amendments to First Revised Service Agreement Nos. 1 through 6 to its FERC Electric Tariff, Original Volume No. 1, under which Deseret provides cost-based wholesale electric service to each of its six Member cooperatives.

Deseret states that a copy of this filing has been served upon all of Deseret's members. Deseret requests an effective date of February 15, 2003.

Comment Date: March 7, 2003.

Standard Paragraph

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov , using the “FERRIS” link. Enter the docket number excluding the last three digits in the docket number filed to access the document. For assistance, contact FERC Online Support at FERCOnlineSupport@ferc.gov or toll-free at (866)208-3676, or for TTY, contact (202)502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. 03-4561 Filed 2-25-03; 8:45 am]

BILLING CODE 6717-01-P